SECURITIES AND EXCHANGE COMMISSION

Sunshine Act Meeting

Notice is hereby given, pursuant to the provisions of the Government in the Sunshine Act, Public Law 94-409, that the Securities and Exchange Commission will hold a Joint Hearing with the Department of Labor to examine target date funds and similar investment options on Thursday, June 18, 2009 beginning at 9 a.m.

The Joint Hearing will take place in the Auditorium of the Department of Labor's headquarters at 200 Constitution Avenue, NW., Washington, DC. The Joint Hearing will be open to the public with seating on a first-come, first-served basis. Visitors will be subject to security checks.

Discussion topics at the Joint Hearing will include issues related to how target date fund managers determine asset allocations and changes to asset allocations (including glide paths) over the course of a fund's operation; how they select and monitor underlying investments; how the foregoing and related risks are disclosed to investors; and the approaches or factors for comparing and evaluating target date funds. Joint Hearing participants will include representatives of plan participants and beneficiaries, plan sponsors, investor organizations, academia and the financial services industry.

For further information, please contact: The Office of the Secretary at (202) 551-5400.

Dated: June 5, 2009.
Elizabeth M. Murphy,
Secretary.

[FR Doc. E9-13683 Filed 6-10-09; 8:45 am]

BILLING CODE 8010-01-P